DEPARTMENT OF HEALTH AND HUMAN SERVICES

Food and Drug Administration

21 CFR Parts 175, 176, 177, and 178

[Docket No. FDA-2016-F-1253]

Natural Resources Defense Council, et al.; Denial of Food Additive Petition; Denial Without Prejudice of Food Additive Petition; Correction

AGENCY: Food and Drug Administration, Health and Human Services (HHS).

ACTION: Notification; correction.

SUMMARY: The Food and Drug Administration (FDA) is correcting a notification that appeared in the Federal Register of May 20, 2022. The notification inadvertently mislabeled the copyright status of certain references. This document corrects that error.

DATES: This notification is effective June 17, 2022.

FOR FURTHER INFORMATION CONTACT: Meadow Platt, Office of Regulations and Policy (HFS-024), Center for Food Safety and Applied Nutrition, Food and Drug Administration, 5001 Campus Dr., College Park, MD 20740, 240-402-2378.

SUPPLEMENTARY INFORMATION: In the Federal Register of Friday, May 20, 2022 (87 FR 31066), in FR. Doc. 2022-10530, the following corrections are made:

On page 31078, in the third column, under “VI. References,” asterisks are removed from reference numbers 5, 8, and 9 because these references are subject to copyright restrictions.

Dated: June 10, 2022.
Lauren K. Roth,
Associate Commissioner for Policy.

[FR Doc. 2022-13076 Filed 6-16-22; 8:45 am]

BILLING CODE 4164-01-P